OFFICE OF THE UNITED STATES TRADE REPRESENTATIVE

Request for Comments on the Operation and Implementation of the World Trade Organization's Agreement on Technical Barriers to Trade

AGENCY: Office of the United States Trade Representative.

ACTION: Request for comments on the operation and implementation of the World Trade Organization's agreement on technical barriers to trade.

SUMMARY: The interagency Trade Policy Staff Committee (TPSC) is seeking public comment on the operation and implementation of the World Trade Organization's (WTO) Agreement on Technical Barriers to Trade (TBT). The WTO Committee on Technical Barriers to Trade, in which the United States is represented, is obliged to conclude a review of the Agreement no later than the end of 2003. The TBT Agreement disciplines the development and application of standards, technical regulations and conformity assessment procedures to prevent unnecessary obstacles to international trade. The text of the Agreement is available at http://www.wto.org.

DATES: Written comments are due by noon Friday, February 28.

Addresses: Submissions by electronic mail: FR0066@ustr.gov.

Submissions by facsimile: Gloria Blue, Executive Secretary, Trade Policy Staff Committee, at 202/395-6143.

The public is strongly encouraged to submit documents electronically rather than by facsimile. (See requirements for submissions below.)

FOR FURTHER INFORMATION CONTACT: For procedural questions concerning written comments, contact Gloria Blue, (202) 395-3475. Further information on the World Trade Organization and the Agreement on Technical Barriers to Trade can be obtained via Internet at the WTO Web site http://www.wto.org and the Office of the U.S. Trade Representative at http://www.ustr.gov. Questions on the Agreement on Technical Barriers to Trade and its review should be directed to Suzanne Troje, Director for Technical Barriers to Trade, at the Office of the United States Trade Representative (202) 395-3063.

SUPPLEMENTARY INFORMATION:

1. Background

The TPSC is seeking public comment on the operation and implementation of the WTO TBT Agreement to inform the U.S. position and approach to the Third Triennial Review. Article 15.4 of the Agreement requires such a review and this will be the third conducted by the TBT Committee since the inception of the World Trade Organization in 1995. Article 15.4 requires the Committee to:

review the operation and implementation of this Agreement, including the provisions relating to transparency, with a view to recommending an adjustment of the rights and obligations of this Agreement where necessary to ensure mutual economic advantage and balance of rights and obligations, without prejudice to the provisions of Article 12 (Special and Differential Treatment for Developing Country Members). Having regard, inter alia, to the experience gained in the implementation of the Agreement, the Committee shall, where appropriate, submit proposals for amendments to the text of this Agreement to the Council for Trade in Goods.

The results of the earlier reviews are available at www.wto.org: G/TBT/5 (19 November 1997), First Triennial Review of the Operation and Implementation of the Agreement on Technical Barriers to Trade, and G/TBT/9 (13 November 2000), for the Second Triennial Review.

Since the conclusion of the Second Triennial Review, the Committee has had follow-up discussions on technical assistance and labeling:

Technical Assistance: G/TBT/W/178, Questionnaire for a Survey to Assist Developing Country Members to Identify and Prioritize their Specific Needs in the TBT-Field was developed by the TBT Committee with a view to eliciting information on the priority needs of Members. To date, some 46 WTO members have provided a response. Although the responses are not publically available, the WTO Secretariat presented some information on them in G/TBT/W/186 (14 October 2002). In March 2003 the Committee will host a workshop on technical assistance to discuss issues arising from the survey results and Committee discussions. The Second Triennial Review requires the Committee to assess its progress in implementing its work program in the context of the Third Triennial Review.

Labeling: The Second Triennial Review, under “other elements” noted that many trade issues were raised at meetings of the Committee concerning labeling and reiterated the importance of compliance with the Agreement. The Committee has held informal discussions largely on the basis of submissions by Members: G/TBT/W/150 (European Commission), G/TBT/W/162 (Switzerland), G/TBT/W/165 (United States), G/TBT/W/174/Rev.1 (Canada), G/TBT/W/175 (European Commission), and G/TBT/W/176 (Japan). At the request of the Committee and to provide a factual background for its future discussions, the Secretariat prepared two papers: one, identifying specific trade concerns related to labeling brought to the attention of the TBT Committee since 1995 (G/TBT/W/184); and, one compiling summary information on all of the notifications made under the Agreement since 1995 related to labeling (G/TBT/W/183). In follow-up to a proposal originating in the Canadian paper, the Committee is currently discussing possible topics for a workshop on labeling to be held in conjunction with its June 2003 meeting.

Comments are welcome related to these topics or any other relevant to the operation and implementation of the Agreement.

2. Requirements for Submissions

In order to facilitate prompt processing of submissions, the Office of the United States Trade Representative strongly urges and prefers electronic (e-mail) submissions in response to this notice. In the event that an e-mail submission is impossible, submissions should be made by facsimile.

Persons making submissions by e-mail should use the following subject line: “WTO TBT Review.” Documents should be submitted as either WordPerfect, MSWord, or text (.TXT) files. For any document containing business confidential information submitted electronically, the file name of the business confidential version should begin with the characters “BC-”, and the file name of the public version should begin with the characters “P-”. The “P” or “BC-” should be followed by the name of the submitter. Persons who make submissions by e-mail should not provide separate cover letters; information that might appear in a cover letter should be included in the submission itself. To the extent possible, any attachments to the submission should be included in the same file as the submission itself, and not as separate files.

Written comments will be placed in a file open to public inspection pursuant to 15 CFR 2003.5, except business confidential information exempt from public inspection in accordance with 15 CFR 2003.6. Business confidential information submitted in accordance with 15 CFR 2003.6 must be clearly marked “BUSINESS CONFIDENTIAL” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file may be made by calling (202) 395-6186. Appointments must be scheduled at least 48 hours in advance.

General information concerning the Office of the United States Trade Representative may be obtained by accessing its Internet server (http://www.ustr.gov).

Carmen Suro-Bredie,
Chairman, Trade Policy Staff Committee.

[FR Doc. 03-2356 Filed 1-31-03; 8:45 am]

BILLING CODE 3190-01-P